DEPARTMENT OF TRANSPORTATION

Federal Highway Administration

Notice of Final Federal Agency Actions on Proposed Highway in California

AGENCY: Federal Highway Administration (FHWA), DOT.

ACTION: Notice of limitation on claims for judicial review of actions by Caltrans.

SUMMARY: This notice announces actions taken by the California Department of Transportation (Caltrans) pursuant to its assigned responsibilities under 23 U.S.C. 327 that are final within the meaning of 23 U.S.C. 139(l)(1). The actions relate to a proposed highway project, Antonio Parkway Widening Project, Unincorporated Orange County, in the County of Orange, State of California. Those actions grant licenses, permits, and approvals for the project.

DATES: By this notice, Caltrans is advising the public of final agency actions subject to 23 U.S.C. § 139(l)(1). A claim seeking judicial review of the Federal agency actions on the highway project will be barred unless the claim is filed on or before March 22, 2011. If the Federal law that authorizes judicial review of a claim provides a time period of less than 180 days for filing such claim, then that shorter time period still applies.

FOR FURTHER INFORMATION CONTACT: Charles Baker, Senior Environmental Planner, California Department of Transportation, 3347 Michelson Drive, Suite 100, Irvine, CA 92612-1692; office hours Monday through Friday, 8 a.m. to 5 p.m., (949) 724-2552; and Charles_Baker@dot.ca.gov.

SUPPLEMENTARY INFORMATION: Notice is hereby given that the California Department of Transportation (Caltrans) pursuant to its assigned responsibilities under 23 U.S.C. 327 has taken final agency actions subject to 23 U.S.C. 139(l)(1) by approving the following highway project in the State of California: The project proposes to widen the existing Antonio Parkway for an approximate 1.4-mile segment within unincorporated Orange County. The Project limits begin at approximately 2,000 feet south of the intersection at Covenant Hills Drive (the southern boundary of the Ladera Ranch Planned Community) and extend to approximately 900 feet south of the intersection with State Route 74 (SR-74), which is known locally as Ortega Highway. The improvements would utilize the existing roadway centerline, profile, and standard super-elevation rates. The improvements are consistent with the local and regional long-range planning programs. FHWA Project Reference No. 12-932073L. The actions by Caltrans, and the laws under which such actions were taken, are described in the Final Environmental Assessment (FEA) and Finding of No Significant Impact (FONSI) for the project, both approved on July 30, 2010, and in other documents in Caltrans project records. The FEA, and other project records are available by contacting the California Department of Transportation at the address provided above. The FEA can be viewed and downloaded from the project Web site at http://www.dot.ca.gov/dist12/files/antonio/index.htm.

This notice applies to all agency decisions as of the issuance date of this notice and all laws under which such actions were taken, including but not limited to:

1. The National Environmental Policy Act.

2. Clean Water Act.

3. Federal Endangered Species Act.

4. Clean Air Act.

5. The National Historic Preservation Act.

(Catalog of Federal Domestic Assistance Program Number 20.205, Highway Planning and Construction. The regulations implementing Executive Order 12372 regarding intergovernmental consultation on Federal programs and activities apply to this program.)

Authority: 23 U.S.C. 139(l)(1).

Issued on September 16, 2010.
Karen Bobo,
Director, Local Programs, Federal Highway Administration, Sacramento, California.

[FR Doc. 2010-23748 Filed 9-22-10; 8:45 am]

BILLING CODE 4910-RY-P